DEPARTMENT OF DEFENSE

Office of the Secretary

[Docket ID: DoD-2022-OS-0108]

Proposed Collection; Comment Request

AGENCY: Cost Assessment and Program Evaluation (CAPE), Department of Defense (DoD).

ACTION: 60-Day information collection notice.

SUMMARY: In compliance with the Paperwork Reduction Act of 1995, CAPE announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 31, 2022.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to OSD CAPE, 1800 Defense Pentagon, Room BE798, Washington, DC 20301-1800, Kelly Hazel, or call (703)-614-5397.

SUPPLEMENTARY INFORMATION:

Title; Associated Form; and OMB Number: Cost and Software Data Report; Forms DD-1921, DD-1921-1, DD-1921-2, DD-1921-3, DD-1921-5, DD-2794; OMB Control Number 0704-CSDR.

Needs and Uses: Cost and Software Data Report (CSDR) data collection is the primary means that DoD uses to collect actual cost and related business data on acquisition programs over 100 million dollars. Program Managers use the CSDR system to report data on contractor development, production and sustainment costs and resource usage incurred in performing DoD programs. The CSDR is also used to ensure the reporting requirements and structures are properly defined for cost, software, and technical data reporting.

Affected Public: Businesses or other for-profit; Not-for-profit Institutions.

Contractor Work Breakdown Structure

Annual Burden Hours: 30,552.

Number of Respondents: 228.

Responses per Respondent: 4.

Annual Responses: 912.

Average Burden per Response: 33.5 hours.

Cost Data Summary Report DD-1921

Annual Burden Hours: 17,753.1.

Number of Respondents: 228.

Responses per Respondent: 4.4.

Annual Responses: 1,003.

Average Burden per Response: 17.7 hours.

Functional Cost and Hours Report DD-1921-1

Annual Burden Hours: 44,198.

Number of Respondents: 228.

Responses per Respondent: 3.6.

Annual Responses: 820.

Average Burden per Response: 53.9 hours.

Progress Curve Report DD-1921-2

Annual Burden Hours: 56,088.

Number of Respondents: 228.

Responses per Respondent: 1.

Annual Responses: 228.

Average Burden per Response: 246 hours.

Contractor Business Data Report DD-1921-3

Annual Burden Hours: 16,330.

Number of Respondents: 115.

Responses per Respondent: 1.

Annual Responses: 115.

Average Burden per Response: 142 hours.

Sustainment Functional Cost-Hour Report DD-1921-5

Annual Burden Hours: 5,676.

Number of Respondents: 40.

Responses per Respondent: 2.2.

Annual Responses: 88.

Average Burden per Response: 64.5 hours.

Cost and Software Data Reporting DD-2794

Annual Burden Hours: 23,712.

Number of Respondents: 228.

Responses per Respondent: 1.

Annual Responses: 228.

Average Burden per Response: 104 hours.

Frequency: Annually.

CAPE is statutorily required by Title 10, United Stated Code in Section 2334(g), to “develop policies, procedures, guidance and a collection method to ensure that quality acquisition cost data are collected to facilitate cost estimation and comparison across acquisition programs.” Section 2334(g) also contains a 100-million-dollar threshold statutory requirement for providing cost data from each acquisition program that exceeds this amount.

Dated: August 24, 2022.
Aaron T. Siegel,
Alternate OSD Federal Register Liaison Officer, Department of Defense.

[FR Doc. 2022-18615 Filed 8-29-22; 8:45 am]

BILLING CODE 5001-06-P